DEPARTMENT OF COMMERCE

National Oceanic and Atmospheric Administration

[RTID 0648-XE100]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day in-person meeting of its Standing, Reef Fish, Socioeconomic, and Ecosystem Scientific and Statistical Committees (SSC).

DATES: The meeting will be held Wednesday, July 31, 2024, from 8:30 a.m. to 5 p.m., EDT, and Thursday, Wednesday, August 1, 2024, from 8:30 a.m. to 5:30 p.m., EDT.

ADDRESSES: The meeting will take place at the Gulf Council's office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Wednesday, July 31, 2024; 8:30 a.m.-5 p.m., EDT

The meeting will begin with Introductions and Adoption of Agenda, Scope of Work, Election of SSC Chair and Vice Chair, review and approval of Minutes and Meeting Summary from the May 2024 SSC meeting.

Council Staff will hold an SSC Member General Orientation and SEDAR Process Orientation and Engagement with presentations and SSC discussion. The SSC will receive presentations on Management Strategy Evaluation and SEDAR Assessment Process Changes and Model Complexity. The SSC will then receive a presentation on Essential Fish Habitat Contract Review: Progress on EFH Data Collection, and Influence of Timing and Duration of Recreational Season Harvest Restrictions on Gag Effort, Harvest and Discards in the Gulf of Mexico; including background materials, supporting manuscripts and SSC discussion. The SSC will receive public comment at the end of the day.

Wednesday, May 8, 2024; 8:30 a.m.-5:30 p.m., EDT

The SSC will discuss Acceptable Biological Catch Control Rule Modifications and receive a RESTORE Project Update on Projections Model Review. Next, the SSC will review Regional and Sector-Specific Gulf of Mexico Age, Growth, and Age-length Key Estimation Derived from Otolith-based Ageing, including presentations, background materials and SSC discussions. Then, the SSC will review the 2025-2028 Research and Monitoring Priorities.

Lastly, the SSC will receive public comment at the end of the day before discussing volunteers for the Ecosystem Technical Committee under Other Business.

—Meeting Adjourns

The meeting will be broadcast via webinar. You may register for the webinar by visiting www.gulfcouncil.org and clicking on the SSC meeting on the calendar.

The agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: July 5, 2024.
Rey Israel Marquez,
Acting Deputy Director, Office of Sustainable Fisheries, National Marine Fisheries Service.

[FR Doc. 2024-15178 Filed 7-9-24; 8:45 am]

BILLING CODE 3510-22-P